DEPARTMENT OF THE INTERIOR

Bureau of Land Management

[F-20520; 18X.LLAK.944000.L14100000.HY0000.P]

Alaska Native Claims Selection

AGENCY: Bureau of Land Management, Interior.

ACTION: Notice of decision approving lands for conveyance.

SUMMARY: The Bureau of Land Management (BLM) hereby provides constructive notice that it will issue an appealable decision approving conveyance of the surface and subsurface estates in certain lands to Kukulget, Inc., and Sivuqaq, Inc., both Alaska Native corporations, pursuant to the Alaska Native Claims Settlement Act of 1971, as amended (ANCSA).

DATES: Any party claiming a property interest in the lands affected by the decision may appeal the decision in accordance with the requirements of 43 CFR part 4 within the time limits set out in the SUPPLEMENTARY INFORMATION section.

ADDRESSES: You may obtain a copy of the decision from the BLM, Alaska State Office, 222 West Seventh Avenue, #13, Anchorage, Alaska 99513-7504.

FOR FURTHER INFORMATION, CONTACT: Eileen Bryant, BLM Alaska State Office, 907-271-5715 or ebryant@blm.gov. The BLM Alaska State Office may also be contacted via a Telecommunications Device for the Deaf (TDD) through the Federal Relay Service at 1-800-877-8339. The relay service is available 24 hours a day, 7 days a week, to leave a message or question with the BLM. The BLM will reply during normal business hours.

SUPPLEMENTARY INFORMATION: As required by 43 CFR 2650.7(d), notice is hereby given that the BLM will issue an appealable decision to Kukulget, Inc., and Sivuqaq, Inc. The decision approves conveyance of the surface and subsurface estates in certain lands pursuant to the ANCSA (43 U.S.C. 1601, et seq.). The lands are located on St. Lawrence Island, Alaska, and are described as:

Lots 4 and 5, U.S. Survey No. 4340, Alaska.

Containing 424.35 acres.

The grant of the lands described above shall be to Kukulget, Inc., and Sivuqaq, Inc., as tenants in common in the following proportions:

Kukulget, Inc., an undivided 415/842 interest, and Sivuqaq, Inc., an undivided 427/842 interest.

The BLM will also publish notice of the decision once a week for four consecutive weeks in the Nome Nugget newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until June 25, 2018 to file an appeal.

2. Parties receiving service of the decision by certified mail shall have 30-days from the date of receipt to file an appeal.

Parties who do not file an appeal in accordance with the requirements of 43 CFR part 4 shall be deemed to have waived their rights. Notices of appeal transmitted by facsimile will not be accepted as timely filed.

Eileen Bryant,
Land Transfer Resolution Specialist, Adjudication Section.

[FR Doc. 2018-11337 Filed 5-24-18; 8:45 am]

BILLING CODE 4310-JA-P